AGENCY FOR INTERNATIONAL DEVELOPMENT

Partnership for Peace Fund Advisory Board; Notice of Meeting

AGENCY: United States Agency for International Development.

ACTION: Request for public comment and notice of public meeting.

SUMMARY: The United States Agency for International Development (USAID) announces a public meeting, and requests public comment for the third meeting of the Partnership for Peace Fund (PPF) Advisory Board to receive updates on programming and progress under MEPPA; receive information regarding ongoing efforts aiming to improve program implementation; and discuss and provide recommendations for peacebuilding programming at USAID.

DATES: Written comments and information are requested on or before November 9, 2023, at 5:00 p.m. EST.

The public meeting will take place on Tuesday, November 14, 2023, from 1:15 p.m. to 3:15 p.m. EST via the Zoom platform (https://usaid.zoomgov.com/j/1600787082).

The meeting does not require pre-registration.

ADDRESSES: You may submit comments regarding the work of the PPF Advisory Board by email to MEPPA@usaid.gov. Include “Public Comment, PPF Advisory Board Meeting, November 14” in the subject line. All public comments and questions will be included in the official record of the meeting and posted publicly on the USAID website.

Please email MEPPA@usaid.gov to request reasonable accommodations for the public meeting. Include “Request for Reasonable Accommodation, PPF Advisory Board Meeting, November 14” in the subject line.

FOR FURTHER INFORMATION CONTACT: Dan McDonald, 202-712-4965, meppa@usaid.gov

SUPPLEMENTARY INFORMATION: In December 2020, Congress passed the Nita M. Lowey Middle East Partnership for Peace Act (https://www.usaid.gov/west-bank-and-gaza/documents/nita-m-lowey-middle-east-partnership-peace-act), or MEPPA, with bipartisan support. The Act directs USAID and the U.S. International Development Finance Corporation (DFC), in coordination with the Department of State, to program $250 million over five years to build the foundation for peaceful coexistence between Israelis and Palestinians through a new PPF, managed by USAID, and a Joint Investment Initiative, managed by the DFC.

MEPPA serves as a recognition that economic, social, and political connections between Israelis and Palestinians are the best way to foster mutual understanding and provide the strongest basis for a sustainable, two-state solution. USAID's Middle East Bureau has been working with Congress, interagency colleagues, and partners in Israel, the West Bank, and Gaza to implement the Act. MEPPA also calls for the establishment of a board to advise USAID on the strategic direction of the PPF.

Composed of up to 15 members, the PPF Advisory Board includes development experts, private sector leaders and faith-based leaders who are appointed by members of Congress and the USAID Administrator. As stated in its charter (https://www.usaid.gov/west-bank-and-gaza/documents/charter-partnership-peace-fund-advisory-board), the Board's role is purely advisory and possesses no enforcement authority or power to bind USAID. Duties of the Board and individual members are restricted to providing information and making recommendations to USAID on matters and issues relating to the types of projects USAID should seek to support in order to further the purposes of the People-to-People Partnership for Peace Fund and partnerships with foreign governments and international organizations to leverage the impact of the People-to-People Partnership for Peace Fund.

The following are the current members of the Advisory Board:

Chair: The Honorable George R. Salem

The Honorable Elliott Abrams

Farah Bdour

Rabbi Angela Buchdahl

Rabbi Michael M. Cohen

Sander Gerber

Ambassador Mark Green (ret.)

Hiba Husseini

Heather Johnston

Harley Lippman

The Honorable Nita M. Lowey

Dina Powell McCormick

Nickolay Mladenov

Jen Stewart

The Honorable Robert Wexler

PPF Advisory Board meetings are held twice a year and are public. More information about how USAID is implementing MEPPA to increase people-to-people partnerships between Israelis and Palestinians is available at: https://www.usaid.gov/west-bank-and-gaza/meppa.

The purpose of this meeting is for the Advisory Board to gain a better understanding of the progress so far to program funds under the PPF to bring Israelis and Palestinians together to increase understanding and advance the goal of a two-state solution.

During this meeting, the Board will (1) receive updates on programming and progress under MEPPA; (2) receive information regarding ongoing efforts aiming to improve program implementation; and (3) discuss and provide recommendations for peacebuilding programming at USAID.

Request for Public Comment

To inform the direction and advice of the Board, USAID invites written comments from the public on areas for focus and strategies for people-to-people peacebuilding under the PPF.

Written comments and information are requested on or before Thursday, November 9, 2023, at 5:00 p.m. EDT. Include “Public Comment, PPF Advisory Board Meeting, November 14” in the subject line. Please submit comments and information as a Word or PDF attachment to your email. You are encouraged to submit written comments even if you plan to attend the public meeting. All public comments and questions will be included in the official record of the meeting and posted publicly on the USAID website.

Public Meeting

A public meeting will take place Tuesday, November 14, 2023, from 1:15 p.m. to 3:15 p.m. This meeting is free and open to the public. Persons wishing to attend the meeting should use the following link: (https://usaid.zoomgov.com/j/1613820653).

Requests for reasonable accommodations should be directed to Daniel McDonald at MEPPA@usaid.gov. Please include “Request for Reasonable Accommodation, PPF Advisory Board Meeting, November 14” in the subject line.

Daniel McDonald,
USAID Designated Federal Officer for the PPF Advisory Board, Bureau for the Middle East, U.S. Agency for International Development.

[FR Doc. 2023-22912 Filed 10-17-23; 8:45 am]

BILLING CODE 6116-01-P